DEPARTMENT OF ENERGY

Federal Energy Regulatory Commission

[Docket No. RP03-59-001]

Horizon Pipeline Company, L.L.C.; Notice of Compliance Filing

December 13, 2002.

Take notice that on December 11, 2002, Horizon Pipeline Company, L.L.C. (Horizon) tendered for filing to become part of its FERC Gas Tariff, Original Volume No. 1, Substitute Original Sheet No. 195A, to be effective December 2, 2002.

Horizon states that the purpose of this filing is to comply with the Commission's order dated November 26, 2002 in the referenced docket.

Horizon states that copies of the filing are being mailed to all parties set out on the Commission's official service list in Docket No. RP03-59.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-32028 Filed 12-18-02; 8:45 am]

BILLING CODE 6717-01-P